NATIONAL SCIENCE FOUNDATION

Special Emphasis in Advanced Networking Infrastructure and Research; Notice of Meeting

In accordance with the Federal Advisory Committee Act (Pub. L. 92-463, as amended), the National Science Foundation announces the following meeting:

Name: Special Emphasis Panel in Advanced Networking Infrastructure and Research (#1207).

Date and Time: October 25, 2000; 8 a.m.-6 p.m.

Place: San Diego Supercomputing Center, University of California, San Diego.

Type of Meeting: Closed.

Contact Person: Aubrey M. Bush, Division of Advanced Networking and Infrastructure Research, Room 1175, National Science Foundation, 4201 Wilson Boulevard. Arlington, VA 22230. Telephone: (703) 292-8948.

Purpose of Meeting: To provide advice and recommendations concerning performance of three High Performance International Internet Services Awards to determine future funding requests submitted to NSF for financial support.

Agenda: To review the performance and assess the importance to the research community of three High Performance International Internet Services Awards submitted to the Networking Infrastructure Programs as part of the selection process for awards.

Reasons for Closing: The awards being reviewed include information of a proprietary or confidential nature, including technical information; financial data, such as salaries; and personal information concerning individuals associated with the proposals. These matters are exempt under 5 U.S.C. 552b(c), (4) and (6) of the Government in the Sunshine Act.

Dated: August 31, 2000.
Karen J. York,
Committee Management Officer.

[FR Doc. 00-22795 Filed 9-5-00; 8:45 am]

BILLING CODE 7555-01-M